DEPARTMENT OF HEALTH AND HUMAN SERVICES

Centers for Medicare & Medicaid Services

42 CFR Parts 405, 410, 411, 413, 414, 424 and 426

[CMS-1502-F2 and CMS-1325-F]

RIN 0938-AN84 and 098-AN58

Medicare Program; Revisions to Payment Policies Under the Physician Fee Schedule for Calendar Year 2006 and Certain Provisions Related to the Competitive Acquisition Program of Outpatient Drugs and Biologicals Under Part B; Correcting Amendment

Corrections

In rule document 06-1711 beginning on page 9458 in the issue of Friday, February 24, 2006, make the following corrections:

1. On page 9461, in the table Addendum B, in the fifth column, in the 19th line, “0.2” should read “0.21”.

2. On the same page, in the same table, in the sixth column, in the 19th line, “11.76” should read “1.76”.

3. On the same page, in the same table, in the fifth column, in the 32nd line, “0.2” should read “0.21”.

4. On the same page, in the same table, in the sixth column, in the 32nd line, “11.17” should read “1.17”.

5. On the same page, in the same table, in the fifth column, in the 41st line, “0.2” should read “0.21”.

6. On the same page, in the same table, in the sixth column, in the 41st line, “11.95” should read “1.95”.

7. On the same page, in the same table, in the ninth column, in the 44th line, “10.693.77” should read “10.69”.

8. On the same page, in the same table, in the 10th column, in the 44th line, “000” should read “3.77”.

[FR Doc. C6-1711 Filed 3-14-06; 8:45 am]

BILLING CODE 1505-01-D